DEPARTMENT OF COMMERCE

International Trade Administration

[A-583-850]

Certain Oil Country Tubular Goods From Taiwan: Rescission of Antidumping Duty Administrative Review; 2015-2016

AGENCY: Enforcement and Compliance, International Trade Administration, Department of Commerce.

SUMMARY: The Department of Commerce (the Department) is rescinding the administrative review of the antidumping duty order on certain oil country tubular goods from Taiwan for the period September 1, 2015, through August 31, 2016.

DATES: Effective March 1, 2017.

FOR FURTHER INFORMATION CONTACT: Michael A. Romani or Minoo Hatten, AD/CVD Operations, Office I, Enforcement and Compliance, International Trade Administration, U.S. Department of Commerce, 1401 Constitution Avenue NW., Washington, DC 20230; telephone: (202) 482-0198 or (202) 482-1690, respectively.

SUPPLEMENTARY INFORMATION:

Background

On September 8, 2016, the Department published a notice of opportunity to request an administrative review of the antidumping duty order on certain oil country tubular goods (OCTG) from Taiwan for the period of review (POR) September 1, 2015, through August 31, 2016.¹

¹ See Antidumping or Countervailing Duty Order, Finding, or Suspended Investigation; Opportunity to Request Administrative Review, 81 FR 62096 (September 8, 2016).

On September 27, 2016, Tension Steel Industries Co., Ltd. (Tension Steel), requested an administrative review of the order with respect to its entries of subject merchandise during the POR.² On November 9, 2016, in accordance with section 751(a) of the Tariff Act of 1930, as amended (the Act) and 19 CFR 351.221(c)(1)(i), we initiated an administrative review of the order on OCTG from Taiwan with respect to Tension Steel.³ On January 9, 2017, Tension Steel timely withdrew its request for an administrative review.⁴ No other party requested an administrative review.

² See Letter from Tension Steel to the Secretary of Commerce entitled, “Oil Country Tubular Goods from Taiwan; Administrative Review Request,” dated September 27, 2016.

³ See Initiation of Antidumping and Countervailing Duty Administrative Reviews, 81 FR 78778 (November 9, 2016).

⁴ See Letter from the petitioners to the Secretary entitled, “Oil Country Tubular Goods from Taiwan; Withdrawal of Administrative Review Request,” dated January 9, 2017.

Rescission of Review

Pursuant to 19 CFR 351.213(d)(1), the Department will rescind an administrative review, “in whole or in part, if a party that requested a review withdraws the request within 90 days of the date of publication of notice of initiation of the requested review.” Tension Steel withdrew its request for review within the 90-day time limit. Because we received no other requests for an administrative review of Tension Steel and no other requests for administrative review of the order on OCTG from Taiwan with respect to other companies subject to the order, we are rescinding the administrative review of the order in full, in accordance with 19 CFR 351.213(d)(1).

Assessment

The Department will instruct U.S. Customs and Border Protection (CBP) to assess antidumping duties on all appropriate entries of OCTG from Taiwan during the POR at rates equal to the cash deposit rate of estimated antidumping duties required at the time of entry, or withdrawal from warehouse, for consumption, in accordance with 19 CFR 351.212(c)(1)(i). The Department intends to issue appropriate assessment instructions to CBP 15 days after publication of this notice in the Federal Register.

Notification to Importers

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

Notification Regarding Administrative Protective Order

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

We intend to issue and publish this notice in accordance with sections 751(a)(1) and 777(i)(1) of the Act and 19 CFR 351.213(d)(4).

Dated: February 21, 2017.
Gary Taverman,
Associate Deputy Assistant Secretary for Antidumping and Countervailing Duty Operations.

[FR Doc. 2017-03960 Filed 2-28-17; 8:45 am]

BILLING CODE 3510-DS-P